DEPARTMENT OF COMMERCE

International Trade Administration

[Application No. 14-3A004]

Export Trade Certificate of Review

ACTION: Notice of Issuance of an amended Export Trade Certificate of Review to DFA of California (“DFA”), Application No. 14-3A004.

SUMMARY: The Secretary of Commerce, through the Office of Trade and Economic Analysis (“OTEA”), issued an amended Export Trade Certificate of Review to DFA of California (“DFA”) on August 8, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

DFA's Export Trade Certificate of Review has been amended to make the following changes to the list of Members covered by the Certificate:

Proposed Amendment:

1. Change the name of existing Member Diamond Foods, Inc. to Diamond Foods, LLC.

The Members covered by the amended Export Trade Certificate of Review are listed below:

1. Alpine Pacific Nut Company, Hughson, CA

2. Andersen & Sons Shelling, Vina, CA

3. Avanti Nut Company, Inc., Stockton, CA

4. Berberian Nut Company, LLC, Chico, CA

5. Carriere Family Farms, Inc., Glenn, CA

6. California Almond Packers and Exporters (CAPEX), Corning CA

7. California Walnut Company, Inc., Los Molinos, CA

8. Chico Nut Company, Chico, CA

9. Continente Nut LLC, Oakley, CA

10. C. R. Crain & Sons, Inc., Los Molinos, CA

11. Crain Walnut Shelling, Inc., Los Molinos, CA

12. Crisp California Walnuts, Stratford, CA

13. Diamond Foods, LLC, Stockton, CA

14. Empire Nut Company, Colusa, CA

15. Fig Garden Packing, Inc., Fresno, CA

16. Gold River Orchards, Inc., Escalon, CA

17. Grower Direct Nut Company, Hughson, CA

18. GSF Nut Company, Orosi, CA

19. Guerra Nut Shelling Company, Hollister, CA

20. Hill View Packing Company Inc., Gustine, CA

21. Mariani Nut Company, Winters, CA

22. Mariani Packing Company, Inc., Vacaville, CA

23. Mid Valley Nut Company Inc., Hughson, CA

24. Morada Nut Company, LP, Stockton, CA

25. National Raisin Company, Fowler, CA

26. O-G Nut Company, Stockton, CA

27. Omega Walnut, Inc., Orland, CA

28. Pearl Crop, Inc., Stockton, CA

29. Poindexter Nut Company, Selma, CA

30. Prima Noce Packing, Linden, CA

31. RPC Packing Inc., Porterville, CA

32. Sacramento Packing, Inc., Yuba City, CA

33. Sacramento Valley Walnut Growers, Inc., Yuba City, CA

34. San Joaquin Figs, Inc., Fresno, CA

35. Shoei Foods USA, Inc., Olivehurst, CA

36. Stapleton-Spence Packing, Gridley, CA

37. Sun-Maid Growers of California, Kingsburg, CA

38. Sunsweet Growers Inc., Yuba City, CA

39. Taylor Brothers Farms, Inc., Yuba City, CA

40. T.M. Duche Nut Company, Inc., Orland, CA

41. Wilbur Packing Company, Inc., Live Oak, CA

42. Valley Fig Growers, Fresno, CA

No change has been made regarding the Export Trade, Export Trade Activities or Methods of Operation covered by the Certificate.

The amended Certificate of Review is effective from May 9, 2016, the date on which the application for an amendment was deemed submitted.

Dated: August 26, 2016.
Emily Kilcrease,
Office of Trade and Economic Analysis, International Trade Administration.

[FR Doc. 2016-21072 Filed 8-31-16; 8:45 am]

BILLING CODE 3510-DR-P